DEPARTMENT OF TRANSPORTATION

Federal Railroad Administration

Notification of Extension of Comment Period

In accordance with Part 211 of Title 49 of the Code of Federal Regulations (CFR), the Federal Railroad Administration (FRA) gave notice that it had received a request of approval for a waiver by the Union Pacific Railroad (UP). UP is implementing remote authority technology, designed to permit authorized users in the field to request, be granted, or release on-track authority without train dispatcher interaction. To facilitate the implementation of this technology, UP is requesting that FRA suspend compliance with certain rules in accordance with the provisions contained in 49 CFR 211.51.

FRA placed the supporting documentation under docket number FRA-2006-24840. FRA also gave notice that it would accept comments on the petition for 45 days subsequent to the publication of the notice. The comment period ended on September 10, 2006, and FRA is reopening the docket for comments to allow the public time to analyze and comment on additional documentation submitted by UP.

All communications concerning this proceeding should identify the appropriate docket number (FRA-2006-24840) and may be submitted by any of the following methods:

• Web site: http://dms.dot.gov. Follow the instructions for submitting comments on the DOT electronic docket site.

• Fax: 202-493-2251

• Mail: Docket Management Facility, U.S. Department of Transportation, 400 Seventh Street, SW., Nassif Building, Room PL-401, Washington, DC 20590-001.

• Hand Delivery: Docket Management Facility, Room PL-401 on the Plaza level of the Nassif Building, 400 Seventh Street, SW., Washington, DC, between 9 a.m. and 5 p.m., Monday through Friday, except Federal Holidays.

Communications received within 90 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000, (Volume 65, Number 70; Pages 19477-78). The statement may also be found at http://dms.dot.gov.

Issued in Washington, DC, on October 4, 2006.
Grady C. Cothen, Jr.,
Deputy Associate Administrator, for Safety Standards and Program Development.

[FR Doc. E6-16708 Filed 10-6-06; 8:45 am]

BILLING CODE 4910-06-P